COMMITTEE FOR PURCHASE FROM PEOPLE WHO ARE BLIND OR SEVERELY DISABLED

Procurement List; Redesignation of Services

AGENCY: Committee for Purchase From People Who Are Blind or Severely Disabled.

ACTION: Redesignation of Procurement List services.

SUMMARY: This notice redesignates services on the Procurement List which will be procured on a Basewide basis rather than for individual buildings. These services are being performed for the Department of the Air Force, Kirtland Air Force Base, New Mexico.

DATES: Effective August 19, 2005.

ADDRESSES: Committee for Purchase From People Who Are Blind or Severely Disabled, Jefferson Plaza 2, Suite 10800, 1421 Jefferson Davis Highway, Arlington, Virginia 2202-3259.

FOR FURTHER INFORMATION CONTACT: Sheryl D. Kennerly, (703) 603-7740.

SUPPLEMENTARY INFORMATION: The following services are on the Procurement List to be performed by the designated nonprofit agencies for the Department of the Air Force, Kirtland Air Force Base, New Mexico as identified below:

From: Service Type/Location: Janitorial/Custodial,

Buildings 333, 404, 499, 589, 20107, 20160, 20203, 21851, and 21852;

Building 1029; Air Force Inspection and Safety Agency,

Building 24499;

Building 1028;

Buildings 433-437, 952-954, 956, 975, 980, 20140, 20202C, 20204, 20350, 20602C, 20604, 20684, 20685, and 20686;

Buildings 243, 255, 277, 322, 325, 336, 382, 400-402, 405, 410, 412-419, 422-424, 430, 485, 497, 591-593, 887, 891, 902, 909, 911, 912, 914, R10, and R20;

Building 426;

Buildings 595 and 472;

Buildings 1017, 1018, 1019, 1020, 37506, 37507, and 37508;

Buildings 201, 381, 460, 467, 482, 585, 605, 617, 618, 619, 702, 760, 760-3, 762, 763, 765, 916, 926, 945, 996, 1010, 1013, 1015, 1025, 1032, 1037, 1048, 1049,7906, 20216, 20219, 20220, 20226, 20234, 20360—20364, 20369, 20724, 20749, 20752, 20754, 22004, 27494, 30117, 30134, and 30136;

Buildings 1000, 1001, 1002, 20129, 20130, 20168, 20200, 20201, 20206, 20227, 20228, 20375, 20405, 20410, 20412, 20414, 20420, 20449, 20451, 20600, 20673, 20674, 20675, 20676, 20678—20683, 20687, 20707, 48025, 57001, 27011, 66001, 66006, 66014, 66017, 66029, 66041, 66047, 66049, 66071, 20202D, 20451A-J, and 20602ABD; Kirtland Air Force Base, New Mexico.

The above services will be procured by the 377th CONS/LGCA, Kirtland Air Force Base, New Mexico on a Basewide basis and are thus being redesignated collectively on the Procurement List as set forth below, and the nonprofit agencies identified below have been designated as the qualified nonprofit agencies authorized to provide the services.

To: Service Type/Location: Janitorial/Custodial, Basewide, Kirtland Air Force Base, New Mexico.

NPA: RCI, Inc. (Acting as Prime Contractor), Albuquerque, New Mexico; Adelante Development Center, Inc., Albuquerque, New Mexico.

Contract Activity: 377th CONS/LGCA, Kirtland Air Force Base, New Mexico.

Sheryl D. Kennerly,
Director, Information Management.

[FR Doc. E5-4543 Filed 8-18-05; 8:45 am]

BILLING CODE 6353-01-P